NUCLEAR REGULATORY COMMISSION

Announcement of a Public Meeting To Discuss Selected Topics for the Review of Emergency Preparedness (EP) Regulations and Guidance for Commercial Nuclear Power Plants

AGENCY: Nuclear Regulatory Commission.

ACTION: Notice of meeting.

SUMMARY: The Nuclear Regulatory Commission's (NRC's) reassessment of emergency preparedness following September 11, 2001, terrorist attacks concluded that the planning basis for emergency preparedness (EP) remains valid. However, as part of our continuing EP review, some enhancements are being considered to EP regulations and guidance due to the terrorist acts of 9/11; technological advances; the need for clarification based upon more than 20 years of experience; lessons learned during drills and exercises; and responses to actual events.

Therefore, the NRC will hold a one and one-half-day public meeting to obtain stakeholder input on selected topics for the review of EP regulations and guidance for commercial nuclear power plants and to discuss EP-related issues that arose during an NRC/FEMA workshop at the 2005 National Radiological Emergency Preparedness (NREP) Conference.

DATES: Wednesday, August 31, 2005, 8:30 a.m. to 5 p.m. and Thursday, September 1, 2005, 8 to 12:30 p.m.

ADDRESSES: Bethesda North Marriott Hotel and Conference Center, 5701 Marinelli Road, North Bethesda, Maryland 20852. (Go to http://www.BethesdaNorthMarriott.com for additional hotel information.)

FOR FURTHER INFORMATION CONTACT: Robert Moody, Mail Stop O6H2, Office of Nuclear Security and Incident Response, U.S. Nuclear Regulatory Commission, Washington, DC 20555-0001; telephone 1-800-368-5642, extension 1737; or e-mail rem2@nrc.gov.

SUPPLEMENTARY INFORMATION:

Meeting Purpose: The purpose of the meeting is to discuss selected topics for the review of EP regulations and guidance for commercial nuclear power plants and to obtain stakeholder input. The selected topics also include EP-related issues that arose during the 2005 NREP Conference, NRC/Federal Emergency Management Agency (FEMA) workshop. In addition to the comments provided by attendees during the discussion of the above topics, the NRC is accepting written comments.

Meeting Overview: The first day of the meeting will cover topics pertaining to potential changes to EP regulations and guidance for commercial nuclear power plants. This portion of the meeting will be conducted as a roundtable discussion among participants who have been invited to represent the broad spectrum of interests in the area of EP. The spectrum includes representatives from State, local, and Tribal governments, Department of Homeland Security (DHS)/FEMA, NRC, advocacy groups, and the nuclear industry. The meeting is open to the public, and all attendees, including State, local, and tribal governments not represented at the roundtable, will have an opportunity to offer comments and ask questions at selected points throughout the meeting. Any questions regarding the roundtable discussion should be directed to the meeting facilitator, Francis “Chip” Cameron by phone at 301-415-1642 or e-mail fxc@nr.gov.

The second day of the meeting will include a discussion of unanswered comments and questions captured during an NRC/FEMA workshop at the 2005 National Radiological Emergency Preparedness Conference (NREP). During the workshop, Emergency Preparedness Directorate (EPD) staff captured all unanswered comments and questions brought forth by stakeholders in a “Parking Lot.” Since the NREP Conference, the staff has worked with FEMA to develop responses to the “Parking Lot” comments and questions. This part of the meeting is to discuss the NRC/FEMA responses to the NREP “Parking Lot” comments and questions in a town hall-type setting. All attendees are encouraged to participate in the discussion.

The public meeting notice and agenda, as well as the responses to the “Parking Lot” comments and questions from the NREP Conference, can be found on the Internet at: http://www.nrc.gov/public-involve/public-meetings/epreview2005.html.

Updated Meeting Information: The NRC encourages all participants to check frequently the following Web site for the most current information on the meeting. New information will be added to this Web site periodically: http://www.nrc.gov/public-involve/public-meetings/epreview2005.html.

Submitting Comments: Comments related to the review of EP regulations and guidance may be sent to Mr. Robert Moody, U.S. Nuclear Regulatory Commission, One White Flint North, Mail Stop O6H2, 11555 Rockville Pike, Rockville, MD 20852. Comments may also be hand-delivered to the NRC at the above address from 7:30 a.m. to 4:15 p.m. during Federal workdays. To be considered, written comments must be received at the NRC by the close of business on Monday, October 17, 2005. Comments provided during the roundtable discussions will be captured in the meeting transcript, and along with any written comments, will be evaluated by the NRC staff.

Electronic comments may be submitted via the following Web site: http://www.nrc.gov/public-involve/public-meetings/epreview2005.html. Electronic comments must be sent no later than the close of business on October 17, 2005.

Meeting Transcript: A transcript of the meeting should be available electronically on or about September 15, 2005, and accessible on the Internet at: http://www.nrc.gov/public-involve/public-meetings/epreview2005.html.

Primary EP Regulations: To facilitate discussion and comment, the primary EP regulations within the scope of review are as follows: 10 CFR 50.47; 10 CFR 50.54(q); Appendix E to 10 CFR 50.

These regulations are available on the NRC EP Web site at: http://www.nrc.gov/what-we-do/emerg-preparedness/regs-guidance-comm.html.

Primary EP Guidance Documents: A list of the primary EP guidance documents that are within the scope of the review are as follows and are also available on the NRC EP Web site at: http://www.nrc.gov/what-we-do/emerg-preparedness/regs-guidance-comm.html.

1. NUREG-0654/FEMA-REP-1, “Criteria for Preparation and Evaluation of Radiological Emergency Response Plans and Preparedness in Support of Nuclear Power Plants”.

2. NUREG-0654/FEMA-REP-1, Supplement 3, “Criteria for Protective Action Recommendations for Severe Accidents”.

The following EP guidance documents are also within the scope of the review. However, they are currently only available electronically in NRC's Agencywide Documents Access and Management System (ADAMS): (Note: ADAMS is the NRC's online document management system at http://www.nrc.gov).

1. NUREG-0696, “Functional Criteria for Emergency Response Facilities” (ADAMS number ML051390358).

2. NUREG-0737, Supplement 1, “Clarification of TMI Action Plan Requirements” (ADAMS number ML051390367).

Brief History: Since 1958, applicants for nuclear power plant operating licensees have been required to have procedures for coping with a radiological emergency. In 1970, the Commission approved new emergency preparedness (EP) requirements in Appendix E to title 10 of the Code of Federal Regulations (CFR) part 50. The few public comments received on the proposed regulations applauded the Commission for its effort to strengthen radiological EP requirements.

The responsibility for carrying out the plans in the event of an accident remained in the hands of local and State governments. In 1973, the Commission issued guidance to local and State governments, including a checklist of 154 items that should be considered in their plans. In 1977, in response to advice from the Advisory Committee on Reactor Safety, the Commission published Regulatory Guide 1.101, “Emergency Planning and Preparedness for Nuclear Power Reactors,” which gave nuclear plant licensees more detailed information on what should be included in emergency plans. Also, about this time, the Conference of (State) Radiation Control Program Directors asked the Commission to make a determination of the most severe accident basis for which radiological emergency response plans should be developed by offsite agencies. In response, the Commission and the Environmental Protection Agency formed a task force. The NRC/EPA task force submitted a report in December 1978, NUREG-0396, “Planning Basis for the Development of State and Local Government Radiological Emergency Response Plans in Support of Light Water Nuclear Power Plants.” Among other recommendations, this report recommended that for planning purposes, a plume exposure pathway emergency planning zone (EPZ) of about a 10-mile radius and the ingestion exposure pathway EPZ about a 50-mile radius.

Emergency response planning received close scrutiny by Congress and the Commission in the wake of the Three Mile Island (TMI) accident. Congressional oversight committees quickly made it clear that they wanted the Commission to upgrade emergency response planning. The final regulations related to TMI were issued in August 1980, when 10 CFR 50.47 was issued and Appendix E to 10 CFR part 50 was revised. Since that time, implementation of the regulations and guidance, technological advances, and lessons learned from actual events and drills and exercises have revealed areas for potential enhancements and increased clarity. In addition, the staff has undertaken a number of studies to improve the state of knowledge in the area of radiological EP.

The most important event in shaping the course of nuclear power since the Three Mile Island Accident in 1979 was the coordinated attack of terrorists on this nation on September 11, 2001. To enhance the interfaces among safety, security and emergency preparedness, the NRC created a new office, Office of Nuclear Security and Incident Response (NSIR), and subsequently an Emergency Preparedness Directorate within NSIR, to address the implications of 9/11 on nuclear power plants. NSIR has worked hard to develop improved security and preparedness for nuclear power plants over the past few years. In addition, following the events of September 11, 2001, the NRC staff conducted a formal evaluation of the emergency planning basis in view of the threat environment that has existed since the terrorist attacks. This evaluation addressed all aspects of nuclear power plant emergency preparedness requirements. In doing so, the evaluation determined that emergency preparedness at nuclear power plants remains strong, but identified several areas for enhancement. These areas for enhancement are the subjects for the first half-day of the meeting.

Review of EP Regulations and Guidance: The NRC staff is conducting a review of EP regulations and guidance to determine where enhancements are needed. The staff will summarize the results of its review, including comments from stakeholders, in a paper to the NRC Commissioners. The paper will include a framework of potential changes to EP guidance and, if necessary, to EP regulations, along with next steps, prioritization, and resource estimates. This effort will be conducted in cooperation with FEMA. Federal EP regulations state that NRC and FEMA will provide an opportunity for the other agency to review and comment on guidance prior to adoption as formal agency guidance.

Questions to Promote Discussion: The following questions have been developed to promote attendee discussion, to obtain attendee input, and to be considered by attendees to help focus their input in each area. Due to their generic nature, they may be applicable to any of the agenda topics. Other questions to promote discussion appear after the summary for each agenda item later in this notice.

1. How can Federal, State, local and tribal governments best respond to protect public health and safety to a rapidly developing security event that has already been broadcast in the media?

2. What approaches work best to minimize the impact of enhanced rules and/or guidance on local and State government?

3. What enhancements to EP regulations and guidance would help you to more effectively and efficiently implement them in a post-9/11 threat environment?

4. What EP regulations and guidance should be enhanced based upon advances in technology?

Agenda Items—Enhancements in Response to the Post 9/11 Threat Environment (Onsite):

1. Security-Based Emergency Classification Levels (ECLs) and Emergency Action Levels (EALs)

As a result of improvements in Federal agencies' information sharing and assessment capabilities, security-based emergency declarations could be accomplished in a more anticipatory manner than the current declarations for security events. Therefore, the NRC is considering modifications to security-based ECL definitions and EAL thresholds in an effort to recognize those improvements.

Suggested question to promote discussion: How will public health and safety be enhanced by having security-based ECLs and EALs?

2. Prompt NRC Notification

In the post-9/11 environment, there is the potential for coordinated attacks on multiple facilities. Prompt notification of the NRC is particularly important during a security event to support subsequent notifications made by the NRC to other licensees and initiate the Federal response in accordance with the National Response Plan. The NRC is considering modifications to require an abbreviated notification to the NRC Operations Center as soon as possible after the discovery of an imminent or actual threat against the facility, but not later than 15 minutes from discovery.

Suggested questions to promote discussion: (1) What public health and safety benefits can be derived from an early notification of a security event to a central location, such as the NRC Operations Center? (2) How should early notifications of security events be sequenced to best protect public health and safety?

3. Onsite Protective Actions

While actions, such as site assembly, personnel accountability, site evacuation, etc., are appropriate for some emergencies, other actions may be more appropriate for a terrorist attack, particularly an aircraft attack. Licensees have made protective measure changes in response to the NRC Order of February 25, 2002, but certain security-based scenarios could warrant consideration of other onsite protective measures. The NRC is considering a range of protection measures for site workers to address this threat.

Suggested question to promote discussion: What is the most effective way to implement offsite protective actions, such as site evacuation of non-responder personnel or accounting for personnel following release from the site, during a terrorist threat or strike?

4. Emergency Response Organization (ERO) Augmentation

The ERO is expected to be staged in a manner that supports rapid response to limit or mitigate site damage or the potential for an offsite radiological release. Some licensees have chosen not to activate elements of the ERO during a security-based event until the site is secured. It is prudent to fully activate emergency response organization members for off-normal hours events to promptly staff alternative facilities. During normal working hours, licensees should consider deployment of onsite emergency response organization personnel to an alternative facility near the site.

Suggested question to promote discussion: During a terrorist event, would there be impediments that would preclude effective recall to the site of station emergency response personnel during a terrorist event, and how could they be overcome?

5. Drill and Exercise Program

Current assessments indicate that licensee measures are available to mitigate the effects of terrorist acts. Consequently, such acts would not create an accident that causes a larger release or one that occurs more quickly than those already addressed by the EP planning basis. However, the condition of the plant after such an event could be very different from the usual condition practiced in more conventional nuclear power plant emergency preparedness (EP) drills and exercises. In light of the foregoing and of the post-9/11 threat environment, licensees should exercise and test security-based EP capabilities as an integral part of the licensee's emergency response capabilities.

Suggested question to promote discussion: How can security-based drills and exercises be most effective in training, practicing and assessing coordinated response roles and responsibilities?

Additional Information Related to the Onsite Agenda Items: NRC Bulletin 2005-02, “Emergency Preparedness and Response Actions for Security-based Events,” dated July 18, 2005, provides additional information to help attendees understand the above topics. This document is available in ADAMS at number ML051740058 or on the Internet at: http://www.nrc.gov/public-involve/public-meetings/epreview2005.html.

Agenda Items—Enhancements in Response to the Post 9/11 Threat Environment (Offsite):

6. Enhanced Offsite Protective Action Recommendations (PARs)

The current PAR guidance contained in Supplement 3, “Criteria for Protective Action Recommendations for Severe Accidents,” to NUREG-0654/FEMA-REP-1 (see the NRC website) specifies that the licensee should issue a PAR based on plant conditions that involve actual or projected severe core damage or loss of control of the facility (i.e., at a general emergency). In the event of an emergency classification based on a security event, the NRC is soliciting comments regarding the receipt of a PAR from a licensee at the site area emergency or possibly at the alert classification level.

Suggested questions to promote discussion: (1) What value to public health and safety would a recommendation to “go indoors and monitor the emergency alert system” at a site area emergency classification provide during a security event? (2) What benefits or possible consequences would occur for stakeholders, if such a recommendation were made during a security event?

7. Abbreviated Notifications to Offsite Response Organizations (OROs)

The regulations in Appendix E to 10 CFR part 50 (to see the regulations go to http://www.nrc.gov/what-we-do/emerg-preparedness/regs-guidance-comm.html) require the licensee to have the capability to notify responsible ORO personnel within 15 minutes after declaring an emergency. While licensees and OROs are proficient with notification transmission and receipt, the notification process itself takes several minutes for the licensee to fill out the form, obtain authorization, and notify the OROs, perform repeat backs, and verify the notification. The NRC is soliciting offsite officials' comments on the receipt of an abbreviated initial notification to enhance emergency response in the case of a rapidly developing security event.

Suggested questions to promote discussion: (1) What public health and safety benefit would be derived from an abbreviated notification to the ORO during a security event? (2) How could such an abbreviated notification be effectively implemented during an onsite security event?

8. Backup Power to Siren Systems

FEMA is in the process of revising its guidance documents to reflect the technological advances that have taken place since they were originally published. By congressional direction, this guidance will require that all warning systems be operable in the absence of alternating current (AC) supply power. FEMA-REP-10, “Guide for Evaluation of Alert and Notification Systems for Nuclear Power Plants,” is currently under revision. Once the revised guidance becomes available, the NRC will be considering regulatory approaches to implement the revised guidance and effect necessary Alert and Notification System (ANS) upgrades.

Suggested question to promote discussion: Should the NRC require that the ANS be operable in the absence of AC power, or are there backup alerting methods that can reliably alert the public in a timely manner under reasonably anticipated conditions that would be an adequate substitution for backup power?

Agenda Item—Protective Action Recommendation Guidance:

Planning Standard 10 CFR 50.47(b)(10) (to review the Planning Standard go to http://www.nrc.gov/what-we-do/emerg-preparedness/regs-guidance-comm.html) requires that a range of protective actions be developed for the protection of the public. Guidance related to the implementation of a range of protective actions is provided in Supplement 3 to NUREG-0654/FEMA-REP-1 (see the NRC Web site above) and EPA-400-R-92-001 (see http://www.nrc.gov/what-we-do/emerg-preparedness/related-information.html). While each guidance document contains the same basic protective action concepts of evacuation, shelter, and, as a supplement, potassium iodide, the NRC is considering changes to clarify the responsibilities of the licensee to recommend PARs, and State, local, and Tribal officials to make the final decision regarding, which protective action(s) is/are implemented. The NRC is also considering the need to more clearly define sheltering. In addition, the NRC is considering the need to enhance guidance related to the updating and use of evacuation time estimates.

Suggested questions to promote discussion: (1) How can the responsibilities of the licensee and State, local, and Tribal officials be clarified relative to protective actions to protect public health and safety? (2) How can sheltering (for discussions on sheltering see EPA-400-R-92-001, “Manual of Protective Action Guides and Protective Actions for Nuclear Incidents” can be found on the NRC Web site at: http://www.nrc.gov/what-we-do/emerg-preparedness/related-information.html) be more clearly defined? (3) How can guidance related to the updating and use of evacuation time estimates be enhanced?

Additional Information Related to Protective Actions: The following information and electronic addresses are provided to help attendees better understand the topic related to protective actions:

1. NRC Regulatory Issue Summary 2004-13, “Consideration of Sheltering in Licensee's Range of Protective Action Recommendations,” August 2, 2004 (ADAMS number ML041210046)

2. NRC Regulatory Issue Summary 2004-13, Supplement 1, “Consideration of Sheltering in Licensee's Range of Protective Action Recommendations,” March 10, 2005 (ADAMS number ML050340531)

3. NRC Regulatory Issue Summary 2005-08, “Endorsement of Nuclear Energy Institute (NEI) Guidance ‘Range of Protective Actions for Nuclear Power Plant Accidents’,” June 6, 2005 (ADAMS number ML050870432)

Background Information for the NREP Parking Lot Issues: On April 11, 2005, at the National Radiological Emergency Preparedness Conference, NRC and FEMA conducted a workshop with State/local/tribal stakeholders, along with licensee representatives. The workshop, “Emergency Preparedness Enhancements in the Post-9/11 Environment,” covered a broad range of EP topics, including proposed 9/11-related enhancements regarding offsite preparedness/response. The workshop was attended by stakeholders nation-wide.

During the workshop, EPD staff recorded all comments and questions brought forth by stakeholders in a “Parking Lot.” NRC and FEMA promised stakeholders that they would provide responses to these comments and questions. Since NREP, the staff has worked with FEMA to develop responses to the “Parking Lot” comments and questions. This part of the meeting is intended to discuss the NRC/FEMA responses to the NREP “Parking Lot” comments and questions, that will be included on the following Web site on or about August 1: http://www.nrc.gov/public-involve/public-meetings/epreview2005.html.

Dated in Rockville, Maryland, the 22nd day of July 2005.
For the Nuclear Regulatory Commission.
Nader L. Mamish,
Director, Emergency Preparedness Directorate, Division of Preparedness and Response, Office of Nuclear Security and Incident Response.

[FR Doc. E5-4011 Filed 7-27-05; 8:45 am]

BILLING CODE 7590-01-P